DEPARTMENT OF TRANSPORTATION

Federal Aviation Administration

14 CFR Part 39

[Docket No. FAA-2016-5595; Directorate Identifier 2015-NM-087-AD]

RIN 2120-AA64

Airworthiness Directives; Zodiac Seats California LLC Seating Systems

AGENCY: Federal Aviation Administration (FAA), DOT.

ACTION: Notice of proposed rulemaking (NPRM); reopening of comment period.

SUMMARY: This document announces the reopening of the comment period for the above-referenced NPRM, which proposed the adoption of a new airworthiness directive (AD) that would apply to certain Zodiac Seats California LLC seating systems. The NPRM proposed to require removing affected seating systems. This reopening of the comment period is necessary to ensure that all interested persons have ample opportunity to submit any written relevant data, views, or arguments regarding the proposed requirements of the NPRM.

DATES: We must receive comments on the NPRM by July 7, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov by searching for and locating Docket No. FAA-2016-5595; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Patrick Farina, Aerospace Engineer, Cabin Safety & Environmental Systems Branch, ANM-150L, FAA, Los Angeles Aircraft Certification Office (ACO), 3960 Paramount Boulevard, Lakewood, CA 90712-4137; phone: 562-627-5344; fax: 562-627-5210; email: Patrick.Farina@faa.gov.

SUPPLEMENTARY INFORMATION: We proposed to amend 14 CFR part 39 by adding a notice of proposed rulemaking (NPRM) that would apply to certain Zodiac Seats California LLC seating systems. The NPRM was published in the Federal Register on April 20, 2016 (81 FR 23212) (“the NPRM”). The NPRM proposed to require removing affected seating systems. The NPRM also invited comments on its overall regulatory, economic, environmental, and energy aspects.

Events Leading to the Reopening of the Comment Period

Since we issued the NPRM, we have received a request from Zodiac Seats California LLC to extend the comment period. Zodiac stated that initial review of the NPRM by the Society of Automotive Engineers (SAE) Aircraft Seat Committee revealed that since the subject matter of the NPRM is highly significant to the industry, more time is necessary to coordinate the industry input to formalize comments. Zodiac added that the comment due date of June 6, 2016, did not provide adequate time to properly research the topics and submit practical comments.

We agree with the commenter's request. We have determined that it is appropriate to reopen the comment period for the NPRM to give all interested persons additional time to examine the proposed requirements and submit comments.

The original comment period for the NPRM, Docket No. FAA-2016-5595, Directorate Identifier 2015-NM-087-AD, closed on June 6, 2016.

FAA's Determination

We consider it necessary to reopen the comment period to give all interested persons additional time to examine the proposed requirements of the NPRM and submit comments. We have determined that reopening the comment period until July 7, 2016, will not compromise the safety of these airplanes.

Extension of Comment Period

The comment period for Docket No. FAA-2016-5595, Directorate Identifier 2015-NM-087-AD, has been revised. The comment period now closes July 7, 2016.

No other part of the regulatory information has been changed; therefore, the NPRM is not republished in the Federal Register.

Issued in Renton, Washington, on June 21, 2016.
Dorr M. Anderson,
Acting Manager, Transport Airplane Directorate, Aircraft Certification Service.

[FR Doc. 2016-15209 Filed 6-24-16; 8:45 am]

BILLING CODE 4910-13-P